CHEMICAL SAFETY AND HAZARD INVESTIGATION BOARD

Sunshine Act Meeting

TIME AND DATE: September 30, 2015, 6:00 p.m. CDT.

PLACE: Hilton Americas—Houston, 1600 Lamar Street, Houston, Texas 77010

STATUS: Open to the public.

MATTERS TO BE CONSIDERED: The Chemical Safety and Hazard Investigation Board (CSB) will convene a public meeting on September 30, 2015, starting at 6:00 p.m. CDT at the Hilton Americas—Houston, 1600 Lamar Street, Houston, Texas 77010. The Board will discuss its investigation of the incident at the DuPont LaPorte facility that claimed four lives. CSB Staff will present interim findings and proposed recommendations for the Board's review and approval.

Additional Information

The meeting is free and open to the public. If you require a translator or interpreter, please notify the individual listed below as the “Contact Person for Further Information,” at least three business days prior to the meeting.

This meeting will be webcast for those who cannot attend in person. Please visit www.csb.gov for access to the live webcast.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. Speakers should assume that their presentations will be limited to five minutes or less, but commenters may submit written statements for the record.

Contact Person for Further Information

Shauna Lawhorne, Public Affairs Specialist, public@csb.gov or (202) 384-2839. Further information about this public meeting can be found on the CSB Web site at: www.csb.gov.

Dated: September 21, 2015.
Kara Wenzel,
Acting General Counsel, Chemical Safety and Hazard Investigation Board.

[FR Doc. 2015-24386 Filed 9-22-15; 11:15 am]

BILLING CODE 6350-01-P